DEPARTMENT OF COMMERCE

National Oceanic and Atmospheric Administration

RIN 0648-XG632

Mid-Atlantic Fishery Management Council (MAFMC); Public Meeting

AGENCY: National Marine Fisheries Service (NMFS), National Oceanic and Atmospheric Administration (NOAA), Commerce.

ACTION: Notice; public meeting.

SUMMARY: The Northeast Trawl Advisory Panel (NTAP) of the Mid-Atlantic Fishery Management Council will hold a meeting.

DATES: The meeting will be held on Monday, December 17, beginning at 9 a.m. and conclude by 4:30 p.m. For agenda details, see SUPPLEMENTARY INFORMATION.

ADDRESSES: The meeting will be held at the Northeast Fisheries Science Center (NEFSC) office located on 28 Tarzwell Dr., Narragansett, RI 02882 and available via webinar (http://www.mafmc.org/ntap).

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of this meeting is to: (1) Review results of the Nov. 19th Working Group meeting, (2) update on the status of the flume tank experiments, (3) update on evaluation of effect of wingspread on assessment results, (4) update on results of the 2018 fall survey, (5) update on the project to collect and evaluate fishery ecological knowledge of Gulf of Maine flatfish distribution shifts and their impacts on the availability to fishery independent surveys and (6) discuss other business and next steps for the NTAP.

Special Accommodations

These meetings are physically accessible to people with disabilities. Requests for sign language interpretation or other auxiliary aids should be directed to M. Jan Saunders at the Mid-Atlantic Council Office (302) 526-5251 at least 5 days prior to the meeting date.

Dated: November 21, 2018.
Rey Israel Marquez,
Acting Deputy Director, Office of Sustainable Fisheries, National Marine Fisheries Service.

[FR Doc. 2018-25826 Filed 11-26-18; 8:45 am]

BILLING CODE 3510-22-P